DEPARTMENT OF THE TREASURY

Office of the Comptroller of the Currency

Agency Information Collection Activities; Information Collection Revision; Comment Request; Bank Secrecy Act/Money Laundering Risk Assessment

AGENCY: Office of the Comptroller of the Currency (OCC), Treasury.

ACTION: Notice and request for comment.

SUMMARY: The OCC, as part of its continuing effort to reduce paperwork and respondent burden, invites the general public and other federal agencies to take this opportunity to comment on a revised information collection as required by the Paperwork Reduction Act of 1995 (PRA). In accordance with the requirements of the PRA, the OCC may not conduct or sponsor, and the respondent is not required to respond to, an information collection unless it displays a currently valid Office of Management and Budget (OMB) control number. The OCC is soliciting comment concerning its information collection entitled, “Bank Secrecy Act/Money Laundering Risk Assessment,” also known as the Money Laundering Risk (MLR) System.

DATES: Comments must be submitted by August 8, 2022.

ADDRESSES: Commenters are encouraged to submit comments by email, if possible. You may submit comments by any of the following methods:

• Email: prainfo@occ.treas.gov.

• Mail: Chief Counsel's Office, Attention: Comment Processing, Office of the Comptroller of the Currency, Attention: 1557-0231, 400 7th Street SW, Suite 3E-218, Washington, DC 20219.

• Hand Delivery/Courier: 400 7th Street SW, Suite 3E-218, Washington, DC 20219.

• Fax: (571) 465-4326.

Instructions: You must include “OCC” as the agency name and “1557-0231” in your comment. In general, the OCC will publish comments on www.reginfo.gov without change, including any business or personal information provided such as name and address information, email addresses, or phone numbers. Comments received, including attachments and other supporting materials, are part of the public record and subject to public disclosure. Do not include any information in your comment or supporting materials that you consider confidential or inappropriate for public disclosure.

Following the close of this notice's 60-day comment period, the OCC will publish a second notice with a 30-day comment period. You may review comments and other related materials that pertain to this information collection beginning on the date of publication of the second notice for this collection by the method set forth in the next bullet. Following the close of this notice's 60-day comment period, the OCC will publish a second notice with a 30-day comment period.

• Viewing Comments Electronically: Go to www.reginfo.gov. Hover over the “Information Collection Review” drop down menu. From the “Currently under Review” drop-down menu, select “Department of Treasury” and then click “submit.” This information collection can be located by searching by OMB control number “1557-0231” or “Bank Secrecy Act/Money Laundering Risk Assessment.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 874-5090, Chief Counsel's Office, Office of the Comptroller of the Currency, 400 7th Street SW, Washington, DC 20219. If you are deaf, hard of hearing, or have a speech disability, please dial 7-1-1 to access telecommunications relay services.

SUPPLEMENTARY INFORMATION: Under the PRA, federal agencies must obtain approval from the OMB for each collection of information they conduct or sponsor. “Collection of information” is defined in 44 U.S.C. 3502(3) and 5 CFR 1320.3(c) to include questions posed to agencies, instrumentalities, or employees of the United States, if the results are to be used for general statistical purposes, that is, if the results are to be used for statistical compilations of general public interest, including compilations showing the status or implementation of federal activities and programs. Section 3506(c)(2)(A) of the PRA requires federal agencies to provide a 60-day notice in the Federal Register concerning each proposed collection of information, including each proposed extension or revision of an existing collection of information, before submitting the collection to OMB for approval. In compliance with the PRA, the OCC is publishing notice of the proposed extension with revision of the collection of information set forth in this document.

Title: Bank Secrecy Act/Money Laundering Risk Assessment.

OMB Control No: 1557-0231.

Type of Review: Regular.

Affected Public: Business or other for-profit.

Description: The MLR System enhances the ability of examiners and bank management to identify and evaluate Bank Secrecy Act/Money Laundering and Office of Foreign Asset Control (OFAC) sanctions risks associated with banks' products, services, customers, and locations. As new products and services are introduced, existing products and services change, and banks expand through mergers and acquisitions, banks' evaluation of money laundering and terrorist financing risks should evolve as well. Consequently, the MLR risk assessment is an important tool for the OCC's Bank Secrecy Act/Anti-Money Laundering and OFAC supervision activities because it allows the agency to better identify those institutions, and areas within institutions, that may pose heightened risk and allocate examination resources accordingly. This risk assessment is critical for protecting U.S. financial institutions of all sizes from potential abuse from money laundering and terrorist financing. The MLR also provides the OCC with information regarding products or customers that may be experiencing difficulties or challenges maintaining banking services. Banks will benefit from the reporting of MLR data as it will assist in the managing of the bank's BSA/AML programs and provide a starting point for banks to develop their risk assessments. An appropriate risk assessment allows controls to be effectively implemented for the lines of business, products, or entities that would elevate Bank Secrecy Act/Money Laundering and OFAC compliance risks.

The OCC will collect MLR information for community and trust banks supervised by the OCC.

The format of OCC's annual Risk Summary Form (RSF) is fully automated making data entry quick and efficient and providing an electronic record for all parties. The RSF collects data about different products, services, customers, and geographies (PSCs). For 2022, the RSF will include three significant changes:

1. The addition of six new PSCs: cash transactions, marijuana-related businesses, ATM Operators, crypto assets—custody, stablecoin issuance, and stablecoin payments.

2. The addition of three new customer types under the money transmitters category: customers that accept or transmit crypto currency; crypto ATM operators; and crypto asset exchanges.

3. The deletion of four existing PSCs: boat/airplane, bulk cash/currency repatriation customers, bulk cash/currency repatriation, and international branches.

The addition of these six new PSCs increases the number of data collection points from 69 to 71 as shown in the table below:

No. | Existing PSCs | No. | New PSCs
1 | Convenience Stores | 1 | Cash Transactions
2 | Liquor Stores | 2 | Marijuana Related Businesses
3 | Domestic Charitable Organizations | 3 | ATM Operators
4 | Jewelry, Gem and Precious Metals Dealers | 4 | Crypto-Assets Custody
5 | Casinos | 5 | Stablecoin Issuance
6 | Car Dealers | 6 | Stablecoin Payments
7 | Boat/Airplane | 7 | Convenience Stores
8 | Domestic Private Banking | 8 | Liquor Stores
9 | Domestic Commercial Letters of Credit | 9 | Domestic Charitable Organizations
10 | Stand-by Letters of Credit | 10 | Jewelry, Gem and Precious Metals Dealers
11 | Customers/Accounts opened through the Internet, Mail, Wire or Phone (non-branch) | 11 | Casinos
12 | Domestic Deposit Brokers | 12 | Car Dealers
13 | Travel Agencies | 13 | Domestic Private Banking
14 | Broker Dealers | 14 | Domestic Commercial Letters of Credit
15 | Telemarketers | 15 | Stand-by Letters of Credit
16 | Remotely Created Check Customers | 16 | Customers/Accounts opened through the Internet, Mail, Wire or Phone (non-branch)
17 | Domestic Remote Deposit Capture Customers | 17 | Domestic Deposit Brokers
18 | Third Party Senders | 18 | Travel Agencies
19 | Issuance of Traveler's Checks, Official Bank Checks & Money Orders | 19 | Broker Dealers
20 | Domestic Wire Transfers | 20 | Telemarketers
21 | Domestic PUPID Wire Transfers | 21 | Remotely Created Check Customers
22 | ACH | 22 | Domestic Remote Deposit Capture Customers
23 | Remotely Created Checks | 23 | Third Party Senders
24 | Domestic Remote Deposit Capture | 24 | Issuance of Traveler's Checks, Official Bank Checks & Money Orders
25 | Non-Resident Alien Accounts | 25 | Domestic Wire Transfers
26 | Politically Exposed Persons | 26 | Domestic PUPID Wire Transfers
27 | Foreign Off-Shore Corporations | 27 | ACH
28 | Foreign Deposit Brokers | 28 | Remotely Created Checks
29 | Foreign Charitable Organizations | 29 | Domestic Remote Deposit Capture
30 | Import/Export | 30 | Non-Resident Alien Accounts
31 | Foreign Remote Deposit Capture Customers | 31 | Politically Exposed Persons
32 | Bulk Cash/Currency Repatriation Customers | 32 | Foreign Off-Shore Corporations
33 | International Branches | 33 | Foreign Deposit Brokers
34 | Foreign Correspondent Accounts | 34 | Foreign Charitable Organizations
35 | Payable Through Accounts | 35 | Import/Export
36 | Pouch Services | 36 | Foreign Remote Deposit Capture Customers
37 | Foreign Bank Affiliate | 37 | Foreign Correspondent Accounts
38 | International Department | 38 | Payable Through Accounts
39 | International Private Banking | 39 | Pouch Services
40 | Embassy & Consulate Banking | 40 | Foreign Bank Affiliate
41 | International Commercial Letters of Credit | 41 | International Department
42 | International Bank Drafts | 42 | International Private Banking
43 | International Wire Transfers | 43 | Embassy & Consulate Banking
44 | International PUPID Wire Transfers | 44 | International Commercial Letters of Credit
45 | Remittance Products | 45 | International Bank Drafts
46 | Cross-Border ACH | 46 | International Wire Transfers
47 | International Remote Deposit Capture | 47 | International PUPID Wire Transfers
48 | Bulk Cash/Currency Repatriation | 48 | Remittance Products
49 | Domestic Casas de Cambio/Currency Exchange | 49 | Cross-Border ACH
50 | Foreign Casas de Cambio/Currency Exchange | 50 | International Remote Deposit Capture
51 | Money Transmitters | 51 | Domestic Casas de Cambio/Currency Exchange
52 | Check Cashers | 52 | Foreign Casas de Cambio/Currency Exchange
53 | Issuers or Sellers of Traveler Checks or Money Orders | 53 | Money Transmitters
54 | Providers of Prepaid Access | 54 | Check Cashers
55 | Sellers of Prepaid Access | 55 | Issuers or Sellers of Traveler Checks or Money Orders
56 | Prepaid Cards | 56 | Providers of Prepaid Access
57 | Prepaid Card Programs—Third Party Sponsored | 57 | Sellers of Prepaid Access
58 | Prepaid Card Programs—Bank Sponsored | 58 | Prepaid Cards
59 | Prepaid Cardholders | 59 | Prepaid Card Programs—Third Party Sponsored
60 | Prepaid Card Program Managers | 60 | Prepaid Card Programs—Bank Sponsored
61 | Domestic Charitable Trusts & Foundations | 61 | Prepaid Cardholders
62 | Foreign Charitable Trusts & Foundations | 62 | Prepaid Card Program Managers
63 | Custodial Accounts | 63 | Domestic Charitable Trusts & Foundations
64 | Investment Advisory Accounts | 64 | Foreign Charitable Trusts & Foundations
65 | Revocable Trusts | 65 | Custodial Accounts
66 | Foreign Grantor or Beneficiaries | 66 | Investment Advisory Accounts
67 | Loans to Closely Held Corporations | 67 | Revocable Trusts
68 | Brokerage Department/Operations | 68 | Foreign Grantor or Beneficiaries
69 | Investment Advisory/Management | 69 | Loans to Closely Held Corporations
|  | 70 | Brokerage Department/Operations
|  | 71 | Investment Advisory/Management
* PSC changes are denoted in bold.

The OCC estimates the burden of this collection of information as follows:

Burden Estimates:

Community and trust bank population:

Estimated Number of Respondents: 970.

Estimated Number of Responses: 970.

Frequency of Response: Annually.

Estimated Annual Burden: 7,760 hours.

Comments submitted in response to this notice will be summarized and included in the request for OMB approval. All comments will become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Theodore J. Dowd,
Deputy Chief Counsel, Office of the Comptroller of the Currency.

[FR Doc. 2022-12320 Filed 6-7-22; 8:45 am]

BILLING CODE 4810-33-P